ENVIRONMENTAL PROTECTION AGENCY

40 CFR Part 80

[EPA-HQ-OAR-2020-0240; FRL-10009-02-OAR]

Proposed Anti-Backsliding Determination for Renewable Fuels and Air Quality

AGENCY: Environmental Protection Agency (EPA).

ACTION: Notice of availability and request for public comment.

SUMMARY: The Environmental Protection Agency (EPA) is proposing that no additional measures are necessary pursuant to Clean Air Act (CAA) section 211(v) to mitigate the adverse air quality impacts of the renewable fuel volumes required under CAA section 211(o). EPA is providing an opportunity for the public to comment on this proposed determination.

DATES: Comments must be received on or before July 8, 2020.

ADDRESSES: Submit your comments, identified by Docket ID No. EPA-HQ-OAR-2020-0240, at https://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Rich Cook, Office of Transportation and Air Quality, Assessment and Standards Division, Environmental Protection Agency, 2000 Traverwood Drive, Ann Arbor, MI 48105; telephone number: 734-214-4827; email address: cook.rich@epa.gov. Comments on this proposal should not be submitted to this email address, but rather through https://www.regulations.gov as discussed in the ADDRESSES section.

SUPPLEMENTARY INFORMATION:

I. Background

CAA section 211(v) requires EPA to take two actions. First, EPA must complete “a study to determine whether the renewable fuel volumes required under [CAA section 211(o)] will adversely impact air quality as a result in changes of vehicle and engine emissions of air pollutants.” The study, commonly known as the “anti-backsliding study,” must include consideration of different blend levels, types of renewable fuels, and available vehicle technologies, as well as appropriate national, regional, and local air quality control measures. EPA has completed the required study, which is available in the docket for this action and at https://www.epa.gov/renewable-fuel-standard-program/anti-backsliding-determination-and-study.

Second, considering the results of the study, EPA must proceed down one of two paths: Either “promulgate fuel regulations to implement appropriate measures to mitigate, to the greatest extent achievable . . . any adverse impacts on air quality, as a result of the renewable volumes required by [Section 211]” or “make a determination that no such measures are necessary.”

II. Proposed Determination

We are proposing to determine that no additional appropriate fuel control measures are necessary to mitigate adverse air quality impacts of required renewable fuel volumes. More information on this determination can be found in the supporting document, which is available in the docket for this action and at https://www.epa.gov/renewable-fuel-standard-program/anti-backsliding-determination-and-study. We seek comment on this proposed determination.

Andrew Wheeler,
Administrator.

[FR Doc. 2020-11991 Filed 6-5-20; 8:45 am]

BILLING CODE 6560-50-P